DEPARTMENT OF LABOR

Office of Disability Employment Policy

“Add Us In” Initiative

AGENCY: Office of Disability Employment Policy, Department of Labor.

Announcement Type: New Notice of Availability of Funds and Solicitation for Grant Applications (SGA) for Cooperative Agreements. The full announcement is posted on http://www.grants.gov.

Funding Opportunity Number: SGA 11-02.

DATES: Key Dates: The closing date for receipt of applications is September 6, 2011 via http://www.grants.gov.

Funding Opportunity Description

The U.S. Department of Labor (“DOL” or “Department”), Office of Disability Employment Policy (ODEP) announces the availability of approximately $1.65 million to be awarded to consortia to fund three cooperative agreements ranging from $500,000 to $550,000. The goal of the Add Us In initiative is to identify and develop strategies to increase the capacity of small businesses and communities, including underrepresented and historically excluded communities, to employ youth and adults with disabilities. Add Us In aims to achieve these goals through: (1) The development and evaluation of replicable models, strategies and policies ¹ that would ensure that youth and adults with disabilities from communities that include underrepresented and historically excluded communities have access to a broader range of employment and mentoring opportunities; (2) the development of active and sustainable partnerships between targeted businesses, diversity-serving organizations, youth-serving organizations and disability-serving organizations; and (3) the building of a national and local network of experts skilled in meeting the employment needs of individuals with disabilities and the hiring needs of targeted business owners. The goal of Add Us In will be accomplished through the competitive funding of consortia tasked to design, implement and evaluate innovative systems models that support competitive employment opportunities for people with disabilities within targeted businesses.

¹ Replicable models, strategies and policies are methods of connecting people with disabilities to employment and might include, but are not limited to, mentoring, entrepreneurial activities, internships, training and leadership opportunities.

For the purpose of this solicitation, the inclusion of underrepresented and historically excluded communities, defined below, is a specific focus. The make-up of these communities may vary in different regions, and can include: ethnic and racial minorities including African American, Asian American (including Asian Americans of West Asian decent, e.g., India, and Asian Americans of East Asian decent, e.g., Japan and Korea); Latino or Hispanic American; Federally recognized Tribes and Native American communities (including American Indians; Alaska Natives, Native Hawaiians, and other Native Pacific Islanders (including American Samoan Natives)); Lesbian, Gay, Bisexual, Transgender (LGBT) individuals; women; veterans; and other similar groups.

Historically excluded communities are areas or groups that face some or all of the following economic challenges: blight, underinvestment, low per capita income, high poverty, high unemployment, discrimination in housing, credit or the labor market, environmental or natural resource degradation, and mass layoffs. A targeted business is a small for-profit enterprise such as a sole proprietorship, partnership, corporation, or joint venture of any kind, physically located in the United States or its trust territories that is at least 51 percent owned, operated and controlled on a daily basis by a United States citizen (or citizens) who are members of underrepresented and historically excluded communities.²

² For the purposes of this solicitation, the definition of a “small” (with regard to the size of the business) is as determined by the U.S. Small Business Administration (SBA) regulations addressing business size standards (13 CFR part 121).

The full Solicitation for Grant Applications is posted on http://www.grants.gov under U.S. Department of Labor/ODEP. Applications submitted through http://www.grants.gov or hard copy will be accepted. If you need to speak to a person concerning these grants, you may telephone Cassandra Mitchell at 202-693-4570 (not a toll-free number). If you have issues regarding access to the http://www.grants.gov Web site, you may telephone the Contact Center Phone at 1-800-518-4726.

Signed in Washington, DC, this 1st day of August 2011.
Cassandra R. Mitchell,
Grant Officer.

[FR Doc. 2011-19823 Filed 8-3-11; 8:45 am]

BILLING CODE 4510-FT-P